DEPARTMENT OF ENERGY

Federal Energy Regulatory Commission

[Docket No. CP01-17-003]

Algonquin Gas Transmission Company; Notice of Compliance Filing

January 29, 2002.

Take notice that on January 24, 2002, Algonquin Gas Transmission Company (Algonquin) tendered for filing as part of its FERC Gas Tariff, Fourth Revised Volume No. 1, the following revised tariff sheets, to become effective January 24 2002:

Fourth Revised Sheet No. 36A

Eleventh Revised Sheet No. 37

Seventh Revised Sheet No. 241

Seventh Revised Sheet No. 245

Seventh Revised Sheet No. 247

Seventh Revised Sheet No. 248

Ninth Revised Sheet No. 940

Seventh Revised Sheet No. 942

Algonquin asserts that the purpose of this filing is to include the Phelps Dodge Lateral in its Rate Schedule AFT-CL and AFT-CL Form of Service Agreement, and to include the applicable rates on the rate sheets, in compliance with the Commission's order issued April 27, 2001 in Docket No. CP01-17-000, authorizing Algonquin to provide firm lateral transportation service to Phelps Dodge Copper Products Company under Rate Schedule AFT-CL.

Algonquin states that copies of the filing were mailed to all affected customers and interested state commissions, as well as all parties on the service list.

Any person desiring to protest said filing should file a protest with the Federal Energy Regulatory Commission, 888 First Street, NE., Washington, DC 20426, in accordance with Section 385.211 of the Commission's Rules and Regulations. All such protests must be filed in accordance with Section 154.210 of the Commission's Regulations. Protests will be considered by the Commission in determining the appropriate action to be taken, but will not serve to make protestants parties to the proceedings. Copies of this filing are on file with the Commission and are available for public inspection. This filing may also be viewed on the web at http://www.ferc.gov using the “RIMS” link, select “Docket#” and follow the instructions (call 202-208-2222 for assistance). Comments, protests and interventions may be filed electronically via the Internet in lieu of paper. See, 18 CFR 385.2001(a)(1)(iii) and the instructions on the Commission's web site under the “e-Filing” link.

C.B. Spencer,
Acting Secretary.

[FR Doc. 02-2572 Filed 2-1-02; 8:45 am]

BILLING CODE 6717-01-P